INTER-AMERICAN FOUNDATION

Sunshine Act Meeting; Agenda for board of Directors' Meeting

October 14, 2005, 9:30 a.m.-3 p.m.

The meeting will be held at the Inter-American Foundation, 901 N. Stuart Street, 10th Floor, Arlington, Virginia 22203.

The meeting will be open except for the portion specified as a closed session as provided in 22 CFR Part 1004.4(f).

9:30 a.m.—Call to Order. Approval of the Minutes of the November 30, 2004 meeting

10 a.m.—President's Report

11 a.m.—Discussion

12 p.m.—Lunch

12:30 p.m.—Discussion and other business. (Portions of this discussion will be closed to discuss personnel issues, as provided in 22 CFR Part 1004.4(f).)

3 p.m.—Adjournment

Jocelyn Nieva,
Acting General Counsel.

[FR Doc. 05-19702 Filed 9-28-05; 11:40 am]

BILLING CODE 7025-01-M